NUCLEAR REGULATORY COMMISSION

Announcement of Public Meeting on Proposed Plan to Risk-Inform Post-Fire Safe-Shutdown Circuit Analysis Inspection

AGENCY: Nuclear Regulatory Commission.

ACTION: Notice of meeting.

SUMMARY: The Nuclear Regulatory Commission (NRC) will hold a public meeting, in the form of a facilitated workshop, to discuss and gather stakeholder input on proposed risk-informed post-fire safe-shutdown circuit analysis inspection.

DATES: February 19, 2003, 9 a.m. to 4:45 p.m.

ADDRESSES: The meeting will be held at the Nuclear Regulatory Commission, Two White Flint North, Auditorium, 11545 Rockville Pike, Rockville, Maryland 20852.

Referenced documents are available for review in ADAMS, NRC's online document management system at http://www.nrc.gov or from the NRC's Public Document Room (PDR), www.pdr.gov, 1-800-397-4209 or 301-415-4737, located on the first floor of One White Flint North, 11555 Rockville Pike, Rockville, MD 20852. Referenced documents and their Accession Nos. are: NRC Information Notice 99-17, “Problems Associated with Post-Fire Safe-Shutdown Circuit Analyses,” (ADAMS Accession No. ML023510114); Enforcement Guidance Memorandum EGM-98-002, Revision 2, (ADAMS Accession No. ML003710123); Memorandum dated, 11/29/2000, “Rationale for Temporarily Halting Certain Associated Circuits Inspection Lines of Inquiry During Fire Protection Baseline Triennial Inspections,” (ADAMS Accession No. ML003773142); Draft Revision D of NEI 00-01, “Guidance for Post-Fire Safe Shutdown Analysis, 10-15-2002,” (ADAMS Accession No. ML023010376); Draft NUREG/CR, “Guidance for Post Fire Safe Shutdown Analysis,” (ADAMS Accession No. ML023430533).

FOR FURTHER INFORMATION CONTACT: Joseph Birmingham, Mail Stop O-11F1, Office of Nuclear Reactor Regulation, U.S. Nuclear Regulatory Commission, Washington, DC 20555-0001, Telephone: 1-800-368-5642, extension 2829, or e-mail jlb4@nrc.gov.

SUPPLEMENTARY INFORMATION: Beginning in 1997, the NRC noticed a number of Licensee Event Reports (LERs) that identified plant specific problems related to potential fire induced electrical circuit failures that could prevent operation or cause mal-operation of equipment necessary to achieve and maintain post-fire safe shutdown. LERs identified problems involving Associated Circuits, Cable Routing, Redundant Train Separation, Wiring Errors, Fire-Induced Hot Shorts, Evaluations of Spurious Operations, Motor Operated Valve Evaluations, Transfer and Isolation Capability, Fuse/Breaker Coordination, High Impedance Faults, High-Pressure/Low-Pressure Interfaces (See NRC Information Notice 99-17 for more information) (Agencywide Documents Access and Management System (ADAMS) Accession No. ML023510114). On November 29, 2000, a memorandum was written that outlined the rationale for halting certain associated circuits inspections while the industry worked to resolve the issue (ADAMS Accession No. ML003773142).

In response to this issue, the Nuclear Energy Institute (NEI), with support from the Boiling Water Reactor Owners Group (BWROG), formed a circuit analysis issue task force. As part of this task force's efforts, a series of cable fire tests were performed. The results of these tests were reviewed by a panel of technical experts and their work was assembled by a technical integrator into a coherent overall evaluation. The final report, “Spurious Actuation of Electrical Circuits Due to Cable Fires: Results of an Expert Elicitation,” was issued by the Electric Power Research Institute (EPRI) in May 2002 (Report No. 1006961). EPRI also developed a document titled, “Characterization of Fire-Induced Circuit Faults, Results of Cable Fire Testing,” December 2002 (Report No. 1003326), that provides the results of the EPRI/NEI initiative examining circuit failures. These EPRI reports are EPRI Licensed Material and are available through EPRI, www.epri.com. (a fee may be applicable).

NEI has also been preparing a guidance document for a risk based evaluation method as part of the industry initiative. This document is currently in Draft Revision D, NEI 00-01, “Guidance for Post-Fire Safe Shutdown Analysis, 10/15/2002” (ADAMS Accession No. ML023010376).

The NRC has contracted with Brookhaven National Laboratory to develop a NUREG/CR that will assemble all NRC positions concerning post-fire safe-shutdown circuit analysis into one source document. A preliminary draft copy is being made available for purposes of this meeting (ADAMS Accession No. ML023430533). The NUREG/CR will also identify successful strategies used by licensees and identify how risk-informed techniques can be used to inspect this program area.

The purpose of this workshop is to identify: (1) The most risk significant associated circuit configurations for inspection so the Enforcement Guidance Memorandum (EGM) EGM-98-002 (ADAMS Accession No. ML003710123) may be withdrawn and inspections resumed in a risk-informed manner, (2) other associated circuit configurations that require further research before focusing inspection in these areas, and (3) the least risk significant associated circuit configurations so that inspection resources will not be expended on low risk/small consequence items. The meeting may gather other information and serve as a vehicle for members of the public to express concerns and to provide advice.

The facilitated workshop will be conducted in a “roundtable” format to encourage a dialogue on the safe shutdown circuit analysis issues among the broad spectrum of stakeholders affected by and concerned about these issues. To have a manageable discussion, the number of participants around the table will, of necessity, be limited. Other members of the public are welcome to attend, and will be given the opportunity to comment on each agenda item to be discussed by the roundtable participants. All questions regarding participation should be directed to the workshop facilitator, Francis “Chip” Cameron by phone at 301-415-1642 or e-mail fxc@nrc.gov.

If participants need to provide more detailed explanations than time in the workshop permits, written comments may be delivered before or up to 10 days after the workshop to Joseph Birmingham, MS 11F1, One White Flint North, 11555 Rockville Pike, Rockville, Maryland, from 7:30 a.m. to 4:15 p.m. Federal workdays. Electronic comments may be submitted to the NRC by e-mail to jlb4@nrc.gov for consideration by the NRC staff.

All comments received by the Commission, including those made by Federal, State, and local agencies, Indian tribes, or other interested persons, will be made available electronically at the Commission's PDR in Rockville, Maryland, and from the Public Access Record System (PARS) component of ADAMS.

Persons may pre-register to attend the facilitated workshop by contacting Joseph Birmingham (see FOR FURTHER INFORMATION CONTACT). Individual oral comments will be limited by the time available and at the discretion of the facilitator. If special equipment or accommodations are needed to attend or present information at the public meeting, the need should be brought to Mr. Birmingham's attention no later than February 1, 2003, to provide the NRC time to determine whether the request can be accommodated.

Members of the public may register to attend or present oral comments at this workshop by contacting Mr. Birmingham, no later than January 15, 2003. Those who wish to make comments may also register outside the Public Meeting Room within 15 minutes of the start of the meeting. Individual oral comments may be limited by the time available, depending on the number of persons who register. Participants who do not have adequate time to fully express their views during the workshop may submit written comments to Mr. Birmingham up to 10 days following the meeting.

Dated at Rockville, Maryland, this 20th day of December 2002.
For the Nuclear Regulatory Commission.
John N. Hannon,
Chief, Plant Systems Branch, Division of Systems Safety and Analysis, Office of Nuclear Reactor Regulation.

[FR Doc. 02-32699 Filed 12-26-02; 8:45 am]

BILLING CODE 7590-01-P